DEPARTMENT OF TRANSPORTATION

Federal Aviation Administration

14 CFR Part 39

[Docket No. FAA-2019-0672; Product Identifier 2019-NM-100-AD; Amendment 39-19724; AD 2019-17-04]

RIN 2120-AA64

Airworthiness Directives; Airbus SAS Airplanes

AGENCY: Federal Aviation Administration (FAA), DOT.

ACTION: Final rule; request for comments.

SUMMARY: The FAA is superseding Airworthiness Directive (AD) 2019-06-09, which applied to certain Airbus SAS Model A350-941 airplanes. AD 2019-06-09 required repetitive tightness checks of the baby bassinet inserts installed on stowages and partitions and, depending on findings, accomplishment of applicable corrective actions, as specified in a European Aviation Safety Agency (EASA) AD, which was incorporated by reference. This new AD continues to require repetitive tightness checks of the baby bassinet inserts installed on stowages and partitions and, depending on findings, accomplishment of applicable corrective actions, and also requires modification of the baby bassinet inserts, which constitutes terminating action for the repetitive tightness checks; as specified in an EASA AD, which is incorporated by reference. This AD was prompted by reports that baby bassinet inserts installed on airplane stowages and partitions were found loose because a self-securing fixation device (Loctite) had not been applied. The FAA is issuing this AD to address the unsafe condition on these products.

DATES: This AD becomes effective September 27, 2019.

The Director of the Federal Register approved the incorporation by reference of a certain publication listed in this AD as of September 27, 2019.

The FAA must receive comments on this AD by October 28, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For the material incorporated by reference (IBR) in this AD, contact the EASA, at Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov by searching for and locating Docket No. FAA-2019-0672.

Examining the AD Docket

You may examine the AD docket on the internet at http://www.regulations.gov by searching for and locating Docket No. FAA-2019-0672; or in person at Docket Operations between 9 a.m. and 5 p.m., Monday through Friday, except Federal holidays. The AD docket contains this AD, the regulatory evaluation, any comments received, and other information. The street address for Docket Operations is listed above. Comments will be available in the AD docket shortly after receipt.

FOR FURTHER INFORMATION CONTACT: Kathleen Arrigotti, Aerospace Engineer, International Section, Transport Standards Branch, FAA, 2200 South 216th St., Des Moines, WA 98198; telephone and fax 206-231-3218.

SUPPLEMENTARY INFORMATION:

Discussion

The FAA issued AD 2019-06-09, Amendment 39-19607 (84 FR 14602, April 11, 2019) (“AD 2019-06-09”), which applied to certain Airbus SAS Model A350-941 airplanes. AD 2019-06-09 was prompted by reports that baby bassinet inserts installed on airplane stowages and partitions were found loose because a self-securing fixation device (Loctite) had not been applied. AD 2019-06-09 required repetitive tightness checks of the baby bassinet inserts installed on stowages and partitions and, depending on findings, accomplishment of applicable corrective actions, as specified in an EASA AD, which was incorporated by reference. The FAA issued AD 2019-06-09 to address loose baby bassinet inserts, which, if not detected and corrected, could lead to detachment of a baby bassinet, possibly resulting in injury to the infant or other airplane occupants.

Actions Since AD 2019-06-09 Was Issued

Since AD 2019-06-09 was issued, the FAA has determined that a modification of the baby bassinet inserts installed on stowages and partitions is necessary to address the unsafe condition.

The EASA, which is the Technical Agent for the Member States of the European Union, has issued EASA AD 2019-0115, dated May 28, 2019 (“EASA AD 2019-0115”) (also referred to as the Mandatory Continuing Airworthiness Information, or “the MCAI”), to correct an unsafe condition for certain Airbus SAS Model A350-941 airplanes. The MCAI states:

Occurrences were reported where baby bassinet inserts installed on Airbus A350 aeroplane stowages and on partitions were found loose. Further investigation identified that a self-securing fixation device (Loctite) had not been applied.

This condition, if not detected and corrected, could lead to detachment of a baby bassinet, possibly resulting in injury to the infant or other aeroplane occupants.

To address this potential unsafe condition, Airbus issued the original issue of the AOT [Alert Operators Transmission] to provide inspection instructions. Consequently, EASA issued AD 2018-0271 [which corresponds to FAA AD 2019-06-09] to require repetitive tightness checks of the baby bassinet inserts installed on stowages and partitions and, depending on findings, accomplishment of applicable corrective action(s).

Since that [EASA] AD was issued, Airbus and Diehl Aviation developed the applicable [service bulletin] SB, providing instructions for modification of the baby bassinet inserts installed on stowages and partitions.

For the reasons described above, this [EASA] AD retains the requirements of EASA AD 2018-0271, which is superseded, and requires modification of the baby bassinet inserts installed on stowages and partitions.

Explanation of Retained Requirements

Although this AD does not explicitly restate the requirements of AD 2019-06-09, this AD retains all requirements of AD 2019-06-09. Those requirements are referenced in EASA AD 2019-0115, which, in turn, is referenced in paragraph (g) of this AD.

Related IBR Material Under 1 CFR Part 51

EASA AD 2019-0115 describes procedures for repetitive tightness checks of the baby bassinet inserts installed on stowages and partitions and, depending on findings, accomplishment of applicable corrective actions, and modification of the baby bassinet inserts, which terminates the repetitive tightness checks. This material is reasonably available because the interested parties have access to it through their normal course of business or by the means identified in the ADDRESSES section, and it is publicly available through the EASA website.

FAA's Determination

This product has been approved by the aviation authority of another country, and is approved for operation in the United States. Pursuant to a bilateral agreement with the State of Design Authority, the FAA has been notified of the unsafe condition described in the MCAI referenced above. The FAA is issuing this AD because the agency evaluated all pertinent information and determined the unsafe condition exists and is likely to exist or develop on other products of the same type design.

Requirements of This AD

This AD requires accomplishing the actions specified in EASA AD 2019-0115 described previously, as incorporated by reference, except for any differences identified as exceptions in the regulatory text of this AD.

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, EASA AD 2019-0115 is incorporated by reference in the FAA final rule. This AD, therefore, requires compliance with the provisions specified in EASA AD 2019-0115, through that incorporation, except for any differences identified as exceptions in the regulatory text of this AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2019-0115 that is required for compliance with EASA AD 2019-0115 is available on the internet at http://www.regulations.gov by searching for and locating Docket No. FAA-2019-0672.

FAA's Justification and Determination of the Effective Date

Since there are currently no domestic operators of this product, notice and opportunity for public comment before issuing this AD are unnecessary. In addition, for the reasons stated above, the FAA finds that good cause exists for making this amendment effective in less than 30 days.

Comments Invited

This AD is a final rule that involves requirements affecting flight safety, and the FAA did not precede it by notice and opportunity for public comment. The FAA invites you to send any written relevant data, views, or arguments about this AD. Send your comments to an address listed under the ADDRESSES section. Include “Docket No. FAA-2019-0672; Product Identifier 2019-NM-100-AD” at the beginning of your comments. The FAA specifically invites comments on the overall regulatory, economic, environmental, and energy aspects of this AD. The FAA will consider all comments received by the closing date and may amend this AD based on those comments.

The FAA will post all comments received, without change, to http://www.regulations.gov, including any personal information you provide. The FAA will also post a report summarizing each substantive verbal contact received about this AD.

Costs of Compliance

Currently, there are no affected U.S.-registered airplanes. If an affected airplane is imported and placed on the U.S. Register in the future, the FAA provides the following cost estimates to comply with this AD:

Estimated Costs for Required Actions
Action | Labor cost | Parts cost | Cost per product
Retained actions from AD 2019-06-09 | 1 work-hours × $85 per hour = $85 | $0 | $85.
New actions | Up to 3 work-hours × $85 per hour = Up to $255 | $0 | Up to $255.

The FAA estimates the following costs to do any necessary on-condition action that would be required based on the results of any required actions. The FAA has no way of determining the number of aircraft that might need this on-condition action:

Estimated Costs of On-Condition Actions
Labor cost | Parts cost | Cost per product
1 work-hour × $85 per hour = $85 | $0 | $85

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2019-06-09, Amendment 39-19607 (84 FR 14602, April 11, 2019), and adding the following new AD:

2019-17-04 Airbus SAS: Amendment 39-19724; Docket No. FAA-2019-0672; Product Identifier 2019-NM-100-AD.

(a) Effective Date

This AD becomes effective September 27, 2019.

(b) Affected ADs

This AD replaces AD 2019-06-09, Amendment 39-19607 (84 FR 14602, April 11, 2019) (“AD 2019-06-09”).

(c) Applicability

This AD applies to Airbus SAS Model A350-941 airplanes, certificated in any category, as identified in European Union Aviation Safety Agency (EASA) AD 2019-0115, dated May 28, 2019 (“EASA AD 2019-0115”).

(d) Subject

Air Transport Association (ATA) of America Code 25, Equipment/furnishings.

(e) Reason

This AD was prompted by reports that baby bassinet inserts installed on airplane stowages and partitions were found loose because a self-securing fixation device (Loctite) had not been applied. The FAA is issuing this AD to address this condition, which, if not detected and corrected, could lead to detachment of a baby bassinet, possibly resulting in injury to the infant or other airplane occupants.

(f) Compliance

Comply with this AD within the compliance times specified, unless already done.

(g) Requirements

Except as specified in paragraph (h) of this AD: Comply with all required actions and compliance times specified in, and in accordance with, EASA AD 2019-0115.

(h) Exceptions to EASA AD 2019-0115

(1) For purposes of determining compliance with the requirements of this AD: Where EASA AD 2019-0115 refers to its effective date, this AD requires using the effective date of this AD.

(2) Where EASA AD 2019-0115 specifies a date of December 26, 2018, for this AD use April 26, 2019 (the effective date of AD 2019-06-09).

(3) The “Remarks” section of EASA AD 2019-0115 does not apply to this AD.

(i) No Reporting Requirement

Although the service information referenced in EASA AD 2019-0115 specifies to submit certain information to the manufacturer, this AD does not include that requirement.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2019-0115 that contains RC procedures and tests: Except as required by paragraph (j)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Kathleen Arrigotti, Aerospace Engineer, International Section, Transport Standards Branch, FAA, 2200 South 216th St., Des Moines, WA 98198; telephone and fax 206-231-3218.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2019-0115, dated May 28, 2019.

(ii) [Reserved]

(3) For EASA AD 2019-0115, contact the EASA, Konrad-Adenauer-Ufer 3, 50668 Cologne, Germany; telephone +49 221 89990 6017; email ADs@easa.europa.eu; Internet www.easa.europa.eu. You may find this EASA AD on the EASA website at https://ad.easa.europa.eu.

(4) You may view this EASA AD at the FAA, Transport Standards Branch, 2200 South 216th St., Des Moines, WA. For information on the availability of this material at the FAA, call 206-231-3195. EASA AD 2019-0115 may be found in the AD docket on the internet at http://www.regulations.gov by searching for and locating Docket No. FAA-2019-0672.

(5) You may view this material that is incorporated by reference at the National Archives and Records Administration (NARA). For information on the availability of this material at NARA, call 202-741-6030, or go to: http://www.archives.gov/federal-register/cfr/ibr-locations.html.

Issued in Des Moines, Washington, on August 22, 2019.
Michael Kaszycki,
Acting Director, System Oversight Division, Aircraft Certification Service.

[FR Doc. 2019-19681 Filed 9-11-19; 8:45 am]

BILLING CODE 4910-13-P